ENVIRONMENTAL PROTECTION AGENCY

[ER-FRL-6679-2]

Environmental Impact Statements; Notice of Availability

Responsible Agency: Office of Federal Activities, General Information (202) 564-7167 or http://www.epa.gov/compliance/nepa/.

Weekly receipt of Environmental Impact Statements

Filed 9/5/2006 through 9/8/2006

Pursuant to 40 CFR 1506.9.

EIS No. 20060367, Final EIS, FHW, UT, Syracuse Road 1000 West to 2000 West, Transportation Improvements, Funding and U.S. Army COE Section 404 Permit, Syracuse City, Davis County, UT, Wait Period Ends: 10/16/2006, Contact: Gregory Punske 801-963-0182.

EIS No. 20060368, Draft EIS, NSF, HI, Advanced Technology Solar Telescope Project, Construction of Site at the University of Hawai'i Institute for Astronomy, Haleakala High Altitude Observatory (HO) Site, Island of Maui, HI, Comment Period Ends: 10/30/2006, Contact: Dr. Craig Foltz 703-292-4909.

EIS No. 20060369, Third Final Supplement, COE, CA, American River Watershed Project, Post Authorization Decision Document, Folsom Dam Raise, Folsom Bridge Project, Proposal to Construct a Permanent Bridge and Roadway across the American River, City of Folsom, Sacramento County, CA, Wait Period Ends:10/16/2006, Contact: Jane Rinck, 916-557-6715.

EIS No. 20060370, Final Supplement, AFS, WI, McCaslin Project, Vegetation Management Activities that are Consistent with Direction in the Nicolet Forest Plan, New Information to Address Inadequate Disclosure of the Cumulative Effect Analysis for Six Animal and Eight Plant Species, Lakewood/Lasna District, Chequamegaon-Nicolet National Forest, Oconto and Forest Counties, WI, Wait Period Ends: 10/16/2006, Contact: Brian Quinn, 715-762-5176.

EIS No. 20060371, Final EIS, BLM, CO, Roan Plateau Resource Management Plan Amendment, Including Former Naval Oil Shale Reserves 1 and 3, Garfield and Rio Blanco Counties, CO, Wait Period Ends: 10/16/2006, Contact: Brenda Williams, 970-947-2800.

EIS No. 20060372, Draft EIS, COE, MN, East Reserve Project, Construct and Operate an Open Pit Taconite Mine between the Towns of Biwabik and McKinley, St. Louis County, MN, Comment Period Ends: 10/30/2006, Contact: Jon K. Ahlness, 651-290-5381.

EIS No. 20060373, Draft EIS, BLM, CA, Sierra Resource Management Plan, Provide Direction for Managing Public Lands, Several Counties, CA, Comment Period Ends:12/13/2006, Contact: Sandra McGinnis, 916-985-4474.

EIS No. 20060374, Draft EIS, AFS, CO, Bull Mountain Natural Gas Pipeline, Construct, Operate and Maintain Natural Gas Pipeline, Issuance of Right-of-Way Grant and Temporary Use Area Permits, Gunnison, Delta, Mesa, Garfield Counties, CO, Comment Period Ends: 11/13/2006, Contact:Bill Jackson, 970-963-2266.

EIS No. 20060375, Draft EIS, FHW, MT, Miller Creek Road Project, To Provide Safe and Improved Access between U.S. 93 and the Miller Creek Area, Missoula County, MT, Comment Period Ends: 11/06/2006, Contact: Theodore Burch, 406-449-5302 Ext 240.

EIS No. 20060376, Draft EIS, FHW, AK, Knik Arm Crossing Project, To Provide Improved Access between the Municipality of Anchorage and Mantanuska-Susitna Borough, AK, Comment Period Ends: 10/30/2006, Contact: Ms. Edrie Vinson, 907-586-7464.

EIS No. 20060377, Final EIS, FRC, WA, Baker River Hydroelectric Project, Application to Relicense the Upper Baker and Lower Baker Developments, Mt. Baker-Snoqualmie National Forest, Baker River, Whatcom and Skagit Counties, WA, Wait Period Ends: 10/16/2006, Contact: Steve Hocking, 202-502-8753.

Amended Notices

EIS No. 20060218, Draft EIS, FHW, NY, Williamsville Toll Barrier Improvement Project, Improvements from New York Thruway, Interstate 90 between Interchange 48A and 50, Funding, Erie and Genesee Counties, NY, Comment Period Ends: 10/06/2006, Contact: Amy Jackson-Grove, 518-431-4125. Revision to FR Notice Published 6/2/2006: Extending Comment Period from 8/21/2006 to 10/6/2006.

EIS No. 20060284, Draft EIS, FHW, KY, I-66 Somerset to London Project, Construction from the Vicinity of the Northern Bypass (I-66) in Somerset, KY to I-75 between London and Corbin Cities, Pulaski, U.S. Army COE Section 404 Permit, Rockcastle and Laurel Counties, KY, Comment Period Ends: 10/9/2006, Contact: Jose Sepulveda 502-223-6740 Revision of FR Notice Published 07/14/2006: Extended Comment from 8/28/2006 to 10/9/2006

Dated: September 12, 2006.
Robert W. Hargrove,
Director, NEPA Compliance Division, Office of Federal Activities.

[FR Doc. E6-15344 Filed 9-14-06; 8:45 am]

BILLING CODE 6560-50-P